DEPARTMENT OF AGRICULTURE

Forest Service

Invasive Plant Treatment Project—Olympic, Gifford Pinchot, and Mt. Hood National Forests and Columbia River Gorge National Scenic Area; Oregon and Washington

AGENCY: Forest Service, USDA.

ACTION: Notice of intent to prepare an environmental impact statement.

SUMMARY: The USDA Forest Service will prepare an environmental impact statement (EIS) to document and disclose the potential environmental effects of proposed invasive plant treatment activities. This project evaluates site specific treatment applications on the Olympic, Gifford Pinchot, and Mt. Hood National Forests, and on the Columbia River Gorge National Scenic Area. This action implements a variety of treatment methods, including manual, mechanical, chemical and biological control.

DATES: Comments concerning the scope of this analysis should be received no later than April 5, 2004.

ADDRESSES: Submit written comments to: Invasive Plant Team, USDA Forest Service, P.O. Box 3623, Portland, OR 97208-3623.

FOR FURTHER INFORMATION CONTACT: Eugene Skrine, Team Leader, Invasive Plant EIS Project, USDA Forest Service, P.O. Box 3623, Portland, OR 97208-3623 or by calling (503) 808-2685.

SUPPLEMENTARY INFORMATION:

Need for the Proposal

In recent years invasive plant populations have significantly increased on the Olympic, Gifford Pinchot, and Mt. Hood National Forests, and on the Columbia River Gorge National Scenic Area. Forest inventories indicate that there are approximately 1000 invasive plant sites. These sites occupy about 16,000 acres of National Forest land, approximately 4,000 acres on the Olympic, 3,500 acres on the Gifford Pinchot, 1,000 acres on the Columbia River Gorge National Scenic Area, and 7,500 acres on the Mount Hood. Invasive plants continue to expand every year, and have the potential to increase at rates of up to 8-12 percent per year.

Invasive plants are compromising our ability to manage the National Forests for a healthy native ecosystem. Invasive plants create a host of environmental and other effects, most of which are harmful to native ecosystem processes, including: displacement of native plants; reduction in functionality of habitat and forage for wildlife and livestock; loss of threatened, endangered, and sensitive species; increased soil erosion and reduced water quality; alteration of physical and biological properties of soil, including reduced soil productivity; changes to the intensity and frequency of fires; high cost (dollars spent) of controlling invasive plants; and loss of recreational opportunities.

Proposed Action

The USDA Forest Service, Olympic, Gifford Pinchot, and Mt. Hood National Forests, and the Columbia River Gorge National Scenic Area propose to treat areas infested with invasive plants. We estimate the cumulative treatment area to be about 16,000 acres, including approximately 7,000 acres by manual treatment, 1,500 acres by mechanical treatment, and 7,500 acres by chemical treatment.

The proposed treatments will be conducted in compliance with Forest Plan direction to enhance our ability to protect native ecosystems from invasive, non-native plants. Some of the treated areas are likely to be small in size, while others are somewhat extensive. Treatment methods will employ manual, mechanical and chemical methods. The selection of individual treatment methods is based on information such as the biology of particular invasive plant species, site location, and size of the infestation. The development of long-term site goals and treatment of infested areas will be linked to revegetation and monitoring.

Proposed Scoping

Public participation is an important part of this analysis. The Forest Service is seeking information, comments, and assistance from Federal, State and local agencies, tribes, and other individuals or organizations who may be interested in or affected by the proposed action. Comments submitted during the scoping process should be in writing. They should be specific to the action being proposed and should describe as clearly and completely as possible any issues the commenter has with the proposal. This input will be used in preparation of the draft EIS.

To facilitate public participation additional scoping opportunities will include: a scoping letter, public meetings (dates and locations yet to be determined), newsletters, and a Web site with address (http://www.fs.fed.us/r6/invasiveplant-eis/multiforest-sitespecific-information.htm).

Preliminary Issues Identified to Date

Preliminary issues associated with the Proposed Action include:

• Human Health—Implementation of treatment methods (particularly herbicides) designed to manage invasive plants may pose risks to the health and safety of workers and the public.

• Threatened, Endangered and Sensitive Species—The treatment of invasive plants can affect Threatened, Endangered, and Sensitive Species.

• Aquatics—The treatment of invasive plants, particularly with herbicides, can affect aquatic ecosystems, including water quality and watershed health.

• Tribes and Treaty Rights—The treatment of invasive plants has potential to affect plants considered culturally important to American Indian Tribes.

• Recreation—The treatment of invasive plants can affect recreation on the Forests.

• Wildlife—The treatment of invasive plants has potential to affect wildlife.

Preliminary Alternatives

The No Action alternative will serve as a baseline for comparison of alternatives. This alternative will offer no treatment of affected sites. It will be fully developed and analyzed. Additional alternatives may be developed around the proposed action to address key issues identified in the scoping and public involvement process.

Estimated Dates for Draft and Final EIS

The draft EIS is expected to be filed with the Environmental Protection Agency (EPA) and to be available for public comment by September 2004. The comment period on the draft EIS will be 45 days from the date the EPA publishes the notice of availability in the Federal Register.

The Forest Service believes, at this early stage, it is important to give reviewers notice of several court rulings related to public participation in the environmental review process. First, reviewers of the draft EIS must structure their participation in the environmental review of the proposal so that it is meaningful, and alerts an agency to the reviewer's position and contentions (Vermont Yankee Nuclear Power Corp. v. NRDC. 435 U.S. 519. 553 [1978]). Also, environmental objectives that could be raised at the draft EIS stage but that are not raised until after the completion of the final EIS may be waived or dismissed by the courts (City of Angoon v. Hodel, 803 F. 2d 1016, 1022 [9th Cir. 1986] and Wisconsin Heritage, Inc. v. Harris, 490 F. Supp. 1334 [E.D.Wis. 1980]). Because of these court rulings, it is very important that those interested in this proposed action participate by the close of the 45-day comment period; so that substantive comments and objections are made available to the Forest Service at a time when it can meaningfully consider them and respond to them in the final EIS.

To assist the Forest Service in identifying and considering issues and concerns on the proposed action, comments on the draft EIS should be as specific as possible. It is also helpful if the comments refer to specific pages or chapters of the draft statement. Comments may also address the adequacy of the draft EIS or the merits of alternatives formulated and discussed in the statement. Reviewers may wish to refer to the Council on Environmental Quality Regulations for implementing the procedural provision of the National Environmental Policy Act (40 CFR 1503.3) in addressing these points.

Comments received in response to this solicitation, including names and addresses of those who comment, will be considered part of the public record on this proposed action and will be available for public inspection. Comments submitted anonymously will be accepted and considered; however, those who submit anonymous comments may not have standing to appeal the subsequent decision under 36 CFR part 215. Additionally, pursuant to 7 CFR 1.27(d), any person may request the agency to withhold a submission from the public record by showing how the Freedom of Information Act (FOIA) permits such confidentiality. Persons requesting such confidentiality should be aware that, under the FOIA, confidentiality may be granted in only very limited circumstances, such as to protect trade secrets. The Forest Service will inform the requester of the agency's decision regarding the request for confidentiality, and where the request is denied, the agency will return the submission and notify the requester that the comments may be resubmitted with or without name and address within a specified number of days.

Comments on the draft EIS will be analyzed, considered, and responded to by the Forest Service in preparing the final EIS. The final EIS is scheduled to be completed in February 2005. There will be four responsible officials for this multiforest EIS. Dale Hom, Forest Supervisor of the Olympic National Forest, Claire Lavendel, Forest Supervisor of the Gifford Pinchot National Forest, Gary Larsen, Forest Supervisor of the Mt. Hood National Forest, and Dan Harkenrider, Area Manager of the Columbia River Gorge National Scenic Area will share the duties of responsible official for this project. They will consider comments, responses, environmental consequences discussed in the final EIS, and applicable laws, regulations, and policies in making the decision and rationale for the decision in the Record of Decision. It will be subject to Forest Service Appeal Regulations (36 CFR part 215).

Dated: February 12, 2004.
Jim Golden,
Deputy Regional Forester, Pacific Northwest Region.

[FR Doc. 04-3581 Filed 2-20-04; 8:45 am]

BILLING CODE 3410-11-P